DEPARTMENT OF HEALTH AND HUMAN SERVICES

National Institutes of Health

Office of the Director, National Institutes of Health; Amended Notice of Meeting

Notice is hereby given of a change in the meeting of the Council of Councils, September 6, 2019, 08:15 a.m. to 04:00 p.m., National Institutes of Health, The Natcher Building, Building 45, Room E, 45 Center Drive, Bethesda, MD 20892 which was published in the Federal Register on February 08, 2019, 84 FR 2890.

The meeting notice is amended to change the open and closed session meeting times as follows: The morning open session will change from 8:15 a.m.-12:00 p.m. to 8:00 a.m.-12:00 p.m.; the closed session will change from 12:00 p.m.-1:30 p.m. to 12:00 p.m.-12:45 p.m.; and the afternoon open session will change from 1:30 p.m.-4:00 p.m. to 12:45 p.m.-4:15 p.m. The meeting is partially closed to the public.

Dated: August 27, 2019.
Ronald J. Livingston, Jr.,
Program Analyst, Office of Federal Advisory Committee Policy.

[FR Doc. 2019-18902 Filed 8-30-19; 8:45 am]

BILLING CODE 4140-01-P